DEPARTMENT OF TRANSPORTATION

Federal Aviation Administration

Public Notice for Waiver of Aeronautical Land-Use Assurance; Indianapolis International Airport, Indianapolis, IN

AGENCY: Federal Aviation Administration, DOT.

ACTION: Notice of intent of waiver with respect to land.

SUMMARY: The Federal Aviation Administration (FAA) is considering a proposal to change a portion of the airport from aeronautical use to non-aeronautical use and to authorize the release of 17.79 acres of airport property for non-aeronautical development. The land consists of portions of 7 original airport acquired parcels. These parcels were acquired under grants: 6-18-0038-01; 3-18-0038-45; and 3-180038-47 or without federal participation. The land currently has three empty office buildings previously used by air carriers. The future use of the property is for nonaviation office development.

There are no impacts to the airport by allowing the Indianapolis Airport Authority to dispose of the property.

The land is not needed for aeronautical use. Approval does not constitute a commitment by the FAA to financially assist in the sale or lease of the subject airport property nor a determination of eligibility for grant-in-aid funding from the FAA.

In accordance with section 47107(h) of title 49, United States Code, this notice is required to be published in the Federal Register 30 days before modifying the land-use assurance that requires the property to be used for an aeronautical purpose.

DATES: Comments must be received on or before September 21, 2009.

ADDRESSES: Written comments on the Sponsor's request must be delivered or mailed to: Melanie Myers, Program Manager, Chicago Airports District Office, 2300 East Devon Avenue, Des Plaines, IL 60018.

FOR FURTHER INFORMATION CONTACT: Melanie Myers, Program Manager, Federal Aviation Administration, Great Lakes Region, Detroit Airports District Office, CHI-ADO 609, 2300 East Devon Avenue, Des Plaines, IL 60018 Telephone Number (847-294-7525)/FAX Number (847-294-7046). Documents reflecting this FAA action may be reviewed at this same location or at Indianapolis International Airport, Indianapolis, Indiana.

SUPPLEMENTARY INFORMATION:

Parcel A

Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South right-of-way line of Washington Street (US 40); thence South 68 degrees 50 minutes 00 seconds West along said right-of-way line 12.88 feet; thence South 00 degrees 07 minutes 05 seconds West along a line being parallel with and 12 feet West of the East line of the above mentioned Quarter Section 466.59 feet; thence North 89 degrees 52 minutes 55 seconds West perpendicular to the aforesaid East line 239.65 feet; thence North 00 degrees 07 minutes 05 seconds East 62.00 feet; thence North 89 degrees 52 minutes 55 seconds West 283.00 feet to the point of beginning of this description; thence South 00 degrees 07 minutes 05 seconds West 176.00 feet; thence South 89 degrees 52 minutes 55 seconds East 55.00 feet; thence South 26 degrees 26 minutes 49 seconds East 33.54 feet; thence South 00 degrees 07 minutes 05 seconds West 140.80 feet; thence South 89 degrees 07 minutes 30 seconds East 15.00 feet; thence South 00 degrees 07 minutes 05 seconds West 303.00 feet to a point on the North right-of-way line of the Penn Central Transportation Company; thence Southwesterly 453.76 feet along a curve to the right having a radius of 2789.93 feet and subtended by a long chord having a bearing of South 84 degrees 04 minutes 16 seconds West and a length of 453.26 feet; thence North 00 degrees 07 minutes 05 seconds East 756.23 feet to a point on the South right-of-way line of Washington Street (US 40); thence North 68 degrees 50 minutes 00 seconds East along said South right-of-way line 345.00 feet; thence South 29 degrees 14 minutes 04 seconds East 90.32 feet; thence South 00 degrees 07 minutes 05 seconds West 105.00 feet to the place of beginning containing 7.670 acres, more or less, subject however to all legal highways, right-of-way, easements and restrictions of record, including not limited to the following described easements:

Easement 1

Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South right-of-way line of Washing Street (US 40); thence south 68 degrees 50 minutes 00 seconds West along said right-of-way line 12.88 feet; thence South 00 degrees 07 minutes 05 seconds West along a line being parallel with and 12 feet West of the East line of the above mentioned Quarter Section 466.59 feet; thence North 89 degrees 52 minutes 55 seconds West perpendicular to the aforesaid East line 239.65 feet; thence North 00 degrees 07 minutes 05 seconds East 62.00 feet; thence North 89 degrees 52 minutes 55 seconds West 283.00 feet to the point of beginning of this description; thence South 00 degrees 07 minutes 05 seconds West 176.00 feet; thence South 89 degrees 52 minutes 55 seconds East 55.00 feet; thence South 26 degrees 26 minutes 49 seconds East 33.54 feet; thence South 00 degrees 07 minutes 30 seconds West 15.00 feet; thence North 00 degrees 07 minutes 05 seconds East 106.10 feet; thence North 40 degrees 20 minutes 18 seconds West 64.00 feet; thence North 89 degrees 52 minutes 55 seconds West 38.47 feet; thence North 00 degrees 07 seconds 05 minutes East 23.00 feet; thence North 10 degrees 06 minutes 12 seconds East 57.67 feet; thence North 00 degrees 07 minutes 05 seconds East 182.47 feet; thence North 29 degrees 14 minutes 04 seconds West 117.32 feet to the South right-of-way line of Washington Street (US 40); thence North 68 degrees 50 minutes 00 seconds East along said South right-of-way line 30.30 feet; thence South 29 degrees 14 minutes 04 seconds East 90.32 feet; thence South 00 degrees 07 minutes 05 seconds West 105.00 feet to the place of beginning, containing 0.276 acres, more or less.

Easement 2

Part of the Southeast Quarter of Section 15, Township 15 North, Range 2 East, of the Second Principal Meridian, all in Marion County, Indiana, more particularly described as follows: Commencing at the northeast Corner as said Southeast Quarter Section; thence South 00 degrees 07 minutes 05 seconds West along the East line of said Quarter Section 531.08 feet to a point on the South right-of-way line of Washington Street (US 40); thence South 68 degrees 50 minutes 00 seconds West along said right-of-way line 12.88 feet; thence South 00 degrees 07 minutes 05 seconds West along a line being parallel with and 12 feet West of the East line of the above mentioned Quarter Section 466.59 feet; thence North 89 degrees 52 minutes 55 seconds West perpendicular to the aforesaid East line 239.65 feet; thence South 00 degrees 07 minutes 05 seconds West 543.04 feet to a point on the North right-of-way of the Penn Central Transportation Company; thence Southwesterly 203.08 feet along a curve to the right having a radius of 2789.93 feet and subtended by a long chord having a bearing of South 77 degrees 19 minutes 35 seconds West and a length of 203.04 feet to the point of beginning of this description; thence continuing along said North right-of-way line Southwesterly 453.76 feet along a curve to the right having a radius of 2789.93 feet and subtended by a long chord having bearing of South 84 degrees 04 minutes 16 seconds West and a length of 453.26 feet; thence North 00 degrees 07 minutes 05 seconds East 40.00 feet; thence North 79 degrees 28 minutes 06 seconds East 179.45 feet; thence South 00 degrees 07 minutes 05 seconds West 48.85 feet to the place of beginning, containing 0.467 acres more or less.

Easement 3

Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South right-of-way line of Washington Street (US 40); thence South 68 degrees 50 minutes 00 seconds West along said right-of-way line 12.88 feet; thence South 00 degrees 07 minutes 05 seconds West along a line being parallel with and 12 feet West of the East line of the above mentioned Quarter Section 466.59 feet; thence North 89 degrees 52 minutes 55 seconds West perpendicular to the aforesaid East line 239.65 feet; thence South 00 degrees 07 minutes 05 seconds West 543.04 feet to a point on the North right-of-way line of the Penn Central Transportation Company; thence Southwesterly 203.08 feet along a curve to the right having a radius of 2789.93 feet and subtended by a long chord having a bearing of South 77 degrees 19 minutes 35 seconds West and a length of 203.04 feet to the point of beginning of this description; thence continuing along said North right-of-way line Southwesterly 30.50 feet along a curve to the right having a radius of 2789.93 feet and subtended by a long chord having a bearing of South 79 degrees 43 minutes 30 seconds West and a length of 30.50 feet; thence North 00 degrees 07 minutes 05 seconds East 308.90 feet; thence South 89 degrees 07 minutes 30 seconds West 30.00 feet; thence South 00 degrees 07 minutes 05 seconds West 303.00 feet to the place of beginning, containing 0.211 acres more or less.

Parcel B

Part of the Southeast Quarter of Section 15, Township 15 North, Range 2 East, of the Second Principal Meridian, all in Marion County, Indiana, more particularly described as follows: Commencing at the Northeast Corner of said Southeast Quarter Section; thence South 00 degrees 07 minutes 05 seconds West along the east line of said Quarter Section 531.08 feet to a point on the South Right-of-Way line of Washington Street (US 40); thence South 68 degrees 50 minutes 00 seconds West along said right-of-way line 12.88 feet; thence South 00 degrees 07 minutes 05 seconds West along a line being parallel with and 12 feet West of the East line of the above mention Quarter Section 466.59 feet; thence North 89 degrees 52 minutes 55 seconds West perpendicular to the aforesaid East line 239.65 feet to the point of beginning of this description; thence South 00 degrees 07 minutes 05 seconds West 543.04 feet to a point on the North right-of-way line of Penn Central Transportation Company; thence Southwesterly 203.08 feet along a curve to the right having a radius of 2789.93 feet and subtended by a long chord having a bearing of South 77 degrees 19 minutes 35 seconds West and a length of 203.04 feet; thence North 00 degrees 07 minutes 05 seconds East 303.00 feet; thence North 89 degrees 07 minutes 30 seconds West 15.00 feet; thence North 00 degrees 07 minutes 05 seconds East 140.80 feet; thence North 26 degrees 26 minutes 49 seconds West 33.54 feet; thence North 89 degrees 52 minutes 55 seconds West 55.00 feet; thence North 00 degrees 07 minutes 05 seconds East 176.00 feet; thence South 89 degrees 52 minutes 55 seconds East 283.00 feet; thence South 00 degrees 07 minutes 05 seconds West 62.00 feet to the place of beginning, containing 3.266 acres more or less, subject to however all legal highways, right-of-ways, easements, and restrictions of record, including but not limited to the following described easements:

Easement 1

Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South Right-of-Way line of Washington Street (US 40); thence South 68 degrees 50 minutes 00 seconds West along said right-of-way line 12.88 feet; thence South 00 degrees 07 minutes 05 seconds West along a line being parallel with and 12 feet West of the East line of the above mentioned Quarter Section 466.59 feet; thence North 89 degrees 52 minutes 55 seconds West 239.65 feet; thence North 00 degrees 07 minutes 05 seconds East 32.00 feet to the point of beginning of this description; thence North 89 degrees 52 minutes 55 seconds West 215.00 feet; thence South 01 degrees 27 minutes 07 seconds East 146.54 feet; thence South 26 degrees 26 minutes 49 seconds East 29.04 feet; thence South 00 degrees 07 minutes 05 seconds West 144.54 feet; thence North 89 degrees 07 minutes 30 seconds West 15.00 feet; thence North 00 degrees 07 minutes 05 seconds East 140.80 feet; thence North 26 degrees 26 minutes 49 seconds West 33.54 feet; thence North 89 degrees 52 minutes 55 seconds West 55.00 feet; thence North 00 degrees 07 minutes 05 seconds East 176.00 feet; thence South 89 degrees 52 minutes 55 seconds East 283.00 feet; thence South 00 degrees 07 minutes 05 seconds West 30.00 feet to the place of beginning containing 0.489 acres, more or less.

Easement 2

Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South Right-of-Way line of Washington Street (US 40); thence South 68 degrees 50 minutes 00 seconds West along said right-of-way line 12.88 feet; thence South 00 degrees 07 minutes 05 seconds West along a line being parallel with and 12 feet West of the East line of the above mentioned Quarter Section 466.59 feet; thence North 89 degrees 52 minutes 55 seconds West perpendicular to the aforesaid East line 239.65 feet to the point of beginning of this description; thence South degrees 07 minutes 05 seconds West 543.04 feet to a point on the North right-of-way line of the Penn Central Transportation Company; thence Southwesterly 203.08 feet along a curve to the right having a radius of 2789.93 feet and subtended by a long chord having a bearing of South 77 degrees 19 minutes 35 seconds West and a length of 203.04 feet; thence North 00 degrees 07 minutes 05 seconds East 48.85 feet; thence North 79 degrees 28 minutes 06 seconds East 170.30 feet; thence North 01 degrees 39 minutes 58 seconds East 123.00 feet; thence North 47 degrees 28 minutes 46 seconds West 58.68 feet; thence North 89 degrees 07 minutes 30 seconds West 115.00 feet; thence North 00 degrees 07 minutes 05 seconds East 20.00 feet; thence South 89 degrees 07 minutes 30 seconds East 159.93 feet; thence North 01 degrees 39 minutes 58 seconds East 299.22 feet; thence South 89 degrees 52 minutes 55 seconds East 30.00 feet; thence South 00 degrees 07 minutes 05 seconds West 32.00 feet to the place of beginning, containing 0.865 acres more or less.

Parcel C

Part of the Southeast Quarter of Section 15; Township 15 North, Range 2 East, of the Second Principal Meridian, all in Marion County, more particularly described as follows: Commencing at the Northeast Corner of said Southeast Quarter Section; thence South 00 degrees 07 minutes 05 seconds West along the East line of said Quarter Section 531.08 feet to a point on the South Right-of-Way line of Washington Street (US 40); thence South 68 degrees 50 minutes 00 seconds West along said right-of-way line 12.88 feet to the point of beginning of this description; thence South 00 degrees 07 minutes 05 seconds West along a line being parallel with and 12 feet West of the East line of the above mentioned Quarter Section 466.59 feet; thence North 89 degrees 52 minutes 55 seconds West 239.65 feet; thence North 00 degrees 07 minutes 05 seconds East 62.00 feet; thence North 89 degrees 52 minutes 55 seconds West 107.46 feet; thence North 00 degrees 07 minutes 05 seconds East 269.36 feet to a point on the South Right-of-Way line of Washington Street (US 40); thence North 68 degrees 50 minutes 00 seconds East along said South right-of-way line 372.52 feet to the point of beginning and containing 3.026 acres, more or less, subject however to all legal highways, right-of-way, and restrictions of record including but not limited to the following described easement: Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South Right-of-Way line of Washington Street (US 40); thence South 68 degrees 50 minutes 00 seconds West along said right-of-way line 12.88 feet; thence South 00 degrees 07 minutes 05 seconds West along a line being parallel with and 12 feet West of the East line of the above mentioned Quarter Section 388.59 feet to the point of beginning of this description; thence continuing South 00 degrees 07 minutes 05 seconds West 30.00 feet; thence North 89 degrees 52 minutes 55 seconds West 239.65 feet; thence North 00 degrees 07 minutes 05 seconds East 14.00 feet; thence North 89 degrees 52 minutes 55 seconds East 16.00 feet; thence South 89 degrees 52 minutes 55 seconds East 347.11 feet to the place of beginning containing 0.204 acres more or less.

Parcel D

Part of the Southeast Quarter of Section 15; Township 15 North, Range 2 East, of the Second Principal Meridian, all in Marion County, Indiana more particularly described as follows:

Commencing at the Northeast Corner of said Southeast Quarter Section; thence South 00 degrees 07 minutes 05 seconds West along the East line of said Quarter Section 531.08 feet to a point on the South Right-of-Way line of Washington Street (US 40); thence South 68 degrees 50 minutes 00 seconds West along said right-of-way line 12.88 feet; thence South 00 degrees 07 minutes 05 seconds West along a line being parallel with and 12 feet West of the East line of the above mentioned Quarter Section 466.59 feet; thence North 89 degrees 52 minutes 55 seconds West perpendicular to the aforesaid East line 239.65 feet; thence North 00 degrees 07 minutes 05 seconds East 62.00 feet; thence North 89 degrees 52 minutes 55 seconds West 107.46 feet to the point of beginning of this description; thence North 00 degrees 07 minutes 05 seconds East 269.36 feet to a point on the South Right-of-Way line of Washington Street (US 40); thence South 68 degrees 50 minutes 00 seconds West along said South right-of-way line 235.91 feet; thence South 29 degrees 14 minutes 04 seconds East 90.32 feet; thence South 00 degrees 07 minutes 05 seconds West 105.00 feet; thence South 89 degrees 52 minutes 55 seconds East 175.54 feet to the place of beginning containing 0.996 acres, more or less, subject however to all legal highways, rights-of-way, easements, and restrictions of record, including but not limited to the following described easement: Part of the Southeast Quarter of Section 15, Township 15 North, Range 2 East, of the Second Principal Meridian, all in Marion County, Indiana, more particularly described as follows: Commencing at the Northeast Corner of said Southeast Quarter Section; thence South 00 degrees 07 minutes 05 seconds West along the East line of said Quarter Section 531.08 feet to a point on the South Right-of-Way line of Washington Street (US 40); thence South 68 degrees 50 minutes 00 seconds West along said right-of-way 12.88 feet; thence South 00 degrees 07 minutes 05 seconds West along a line being parallel with and 12 feet West of the East line of the above mentioned Quarter Section 466.59 feet; thence North 89 degrees 52 minutes 55 seconds West 239.65 feet; thence North 00 degrees 07 minutes 05 seconds East 62.00 feet; thence North 89 degrees 52 minutes 55 seconds West 107.46 feet to the point of beginning of this description; thence North 00 degrees 07 minutes 05 seconds East 16.00 feet; thence North 89 degrees 52 minutes 55 seconds West 108.80 feet; thence North 01 degrees 27 minutes 07 seconds West 208.82 feet to a point on the South Right-of-Way line of Washington Street (US 40); thence South 68 degrees 50 minutes 00 seconds West along said South right-of-way line 113.00 feet; thence South 29 degrees 14 minutes 04 seconds East 90.32 feet; thence South 00 degrees 07 minutes 05 seconds West 105.00 feet; thence South 89 degrees 52 minutes 55 seconds East 175.54 feet to the place of beginning containing 0.403 acres, more or less.

Parcel E

Part of the Southeast Quarter of Section 15; Township 15 North, Range 2 East, Marion County, Indiana, described as follows: Commencing at the Southwest Corner of said Southeast Quarter, said corner being marked by a bronze disc inscribed “Indianapolis Airport Authority 22-C” set in concrete, thence North 89 degrees 49 minutes 01 seconds East (bearings based on NAD 1983 per Indianapolis Airport Authority Master Plan) along the South line of said Southeast Quarter 1736.32 feet; thence North 00 degrees 10 minutes 59 seconds West 1086.94 feet to the point of beginning, said point being marked by a fence post at the Southeast corner of a chain link fence; thence South 89 degrees 58 minutes 32 seconds West 162.45 feet to a fence post at the Southwest corner of said fence; thence North 00 degrees 08 minutes 40 seconds East 275.21 feet to a fence post at the Northwest corner of said fence, thence South 89 degrees 55 minutes 52 seconds East 162.30 feet to a fence post at the Northeast corner of said fence; thence South 00 degrees 06 minutes 53 seconds West 274.94 feet to the point of beginning, containing 1.025 acres, more or less.

Parcel F

Part of the Southeast Quarter of Section 15; Township 15 North, Range 2 East, Marion County, Indiana, described as follows:

Commencing at the Southwest Corner of said Southeast Quarter, said corner being marked by a bronze disc inscribed “Indianapolis Airport Authority 22-C” set in concrete, thence North 89 degrees 49 minutes 01 seconds East (bearings based on NAD 1983 per Indianapolis Airport Authority Master Plan) along the South line of said Southeast Quarter 1736.32 feet; thence North 00 degrees 10 minutes 59 seconds West 1086.04 feet; thence North 00 degrees 06 minutes 53 seconds East 274.94 feet to the point of beginning, said point being marked by a fence post at the Northeast corner of a chain link fence; thence North 89 degrees 55 minutes 52 seconds West 162.30 feet to a fence post at the Northwest corner of said fence, thence North 00 degrees 06 minutes 53 seconds East 138.00 feet; thence South 89 degrees 55 minutes 52 seconds East 162.30 feet to a North-South fence line; thence South 00 degrees 06 minutes 53 seconds West along said fence line 138.00 feet to the point of beginning, containing 0.514 acres, more or less.

Issued in Des Plaines, Illinois, on July 30, 2009.
Jack Delaney,
Acting Manager, Chicago Airports District Office, FAA, Great Lakes Region.

[FR Doc. E9-20124 Filed 8-20-09; 8:45 am]

BILLING CODE 4910-13-P